ENVIRONMENTAL PROTECTION AGENCY

40 CFR Part 300

[EPA-R03-SFUND-2010-0436; FRL-9177-9]

National Oil and Hazardous Substances Pollution Contingency Plan; National Priorities List: Intent to Partially Delete the Letterkenny Army Depot Southeastern (SE) Area and Letterkenny Army Depot Property Disposal Office (PDO) Area Superfund Sites

AGENCY: Environmental Protection Agency.

ACTION: Proposed rule.

SUMMARY: The Environmental Protection Agency (EPA) Region III is issuing a Notice of Intent to Delete portions of the Letterkenny Army Depot Southeastern (SE) Area and Letterkenny Army Depot Property Disposal Office (PDO) Area (Sites), located in Chambersburg, Franklin County, Pennsylvania, from the National Priorities List (NPL) and requests public comments on this proposed action. The NPL, promulgated pursuant to section 105 of the Comprehensive Environmental Response, Compensation, and Liability Act (CERCLA) of 1980, as amended, is an appendix of the National Oil and Hazardous Substances Pollution Contingency Plan (NCP). The EPA and the Commonwealth of Pennsylvania, through the Pennsylvania Department of Environmental Protection (PADEP), have determined that all appropriate response actions at these identified parcels under CERCLA, other than operation, maintenance, and five-year reviews, have been completed. However, this deletion does not preclude future actions under Superfund.

This partial deletion pertains to the soil and groundwater of parcels 24, 27, 28, 2-53, 2-53L, 2-54, 2-54L, 2-70, 2-70L, 3-89, 3-90, and 3-91. All other parcels within the site boundaries of the Letterkenny Army Depot SE and PDO Areas will remain on the NPL and are not being considered for deletion as part of this action.

DATES: Comments must be received by August 23, 2010.

ADDRESSES: Submit your comments, identified by Docket ID no. EPA-R03-SFUND-2010-0436, by one of the following methods:

• http://www.regulations.gov. Follow on-line instructions for submitting comments.

• E-mail: hoover.gerald@epa.gov.

• Fax: (215) 814-3025, Attn: Gerald Hoover.

• Mail or Hand Delivery: U.S. Environmental Protection Agency, Region III, Attn: Gerald Hoover (3HS11), 1650 Arch Street, Philadelphia, PA 19103-2029, Phone: (215) 814-2077. Business Hours: Mon. thru Fri.—9 a.m. to 4 p.m.

Such deliveries are only accepted during the Docket's normal hours of operation, and special arrangements should be made for deliveries of boxed information.

Instructions: Direct your comments to Docket ID no. EPA-R03-SFUND-2010-0436. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at:

U.S. EPA Region III, Library, 2nd Floor, 1650 Arch Street, Philadelphia, Pennsylvania, 19103-2029, Phone: (215) 814-5254, Business Hours: Mon. thru Fri.—8 am to 5 pm

Letterkenny Army Depot, Building 14, Chambersburg, PA 17201-4150, POC Bryan Hoke, 717-267-9836.

FOR FURTHER INFORMATION CONTACT: Gerald Hoover, Remedial Project Manager, U.S. Environmental Protection Agency, Region III, (3HS11) 1650 Arch St., Philadelphia, PA 19103-2029, (215) 814-2077

SUPPLEMENTARY INFORMATION: In the “Rules and Regulations” Section of today's Federal Register, we are publishing a direct final Notice of Partial Deletion for portions of the Letterkenny Army Depot SE and PDO Areas without prior Notice of Intent for Partial Deletion because EPA views this as a noncontroversial revision and anticipates no adverse comment. We have explained our reasons for this partial deletion in the preamble to the direct final Notice of Partial Deletion, and those reasons are incorporated herein. If we receive no adverse comment(s) on this partial deletion action, we will not take further action on this Notice of Intent for Partial Deletion. If we receive adverse comment(s), we will withdraw the direct final Notice of Partial Deletion and it will not take effect. We will, as appropriate, address all public comments in a subsequent final Notice of Partial Deletion based on this Notice of Intent for Partial Deletion. We will not institute a second comment period on this Notice of Intent for Partial Deletion. Any parties interested in commenting must do so at this time.

For additional information, see the direct final Notice of Partial Deletion which is located in the Rules section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: July 12, 2010.
William C. Early,
Acting Regional Administrator, Region III.

[FR Doc. 2010-17779 Filed 7-22-10; 8:45 am]

BILLING CODE 6560-50-P